NUCLEAR REGULATORY COMMISSION

Subject Matter Expert Review and Workshop on NRC Program on Human Performance

AGENCY: Nuclear Regulatory Commission.

ACTION: Notice of meeting.

SUMMARY: NRC Staff, representatives of the nuclear industry, other government agencies, other industries and academia will meet to peer review SECY-00-0053, “NRC Program on Human Performance (PHP),” and participate in a workshop to further develop the PHP for the next 5-7 years. Risk, operational experience, emerging technologies, and deregulation of the nuclear industry will play a significant role in determining activities needed for the next revision of the PHP. The meeting is open to the public and all interested parties may attend.

DATES: April 3-6, 2001.

TIMES: 8 a.m. to 6 p.m. (April 3-5), 8 a.m. to 12:30 p.m. (April 6).

ADDRESSES: Belleview Biltmore Hotel, 25 Belleview Boulevard, Clearwater, Florida 33756, 1-800-237-8947.

FOR FURTHER INFORMATION CONTACT: Joel J. Kramer, Mail Stop T-10 F13A, Telephone: (301) 415-5891; Internet: jjk1@nrc.gov, or Julius Persensky, Mail Stop T-10 F13A, Telephone: (301) 415-6759; Internet:jjp2@nrc.gov, U.S. Nuclear Regulatory Commission, Washington, DC 20555-0001.

For material related to the meeting, please contact U.S. NRC Public Affairs Office (301) 415-8200.

SUPPLEMENTARY INFORMATION: In order to further develop the PHP for the next 5-7 years and help focus the Workshop, the NRC is requesting views from the public and all interested parties on the following questions:

(1) How important is human performance to nuclear safety?

(2) What is the risk impact of human performance?

(3) What role should operating experience in the nuclear industry and other industries have in assessing human performance?

(4) What is the impact of deregulation on human performance?

(5) What activities and research should be performed by the NRC; what activities might better be done by industry?

Dated at Rockville, Maryland this 2nd day of March, 2001.
For the Nuclear Regulatory Commission.
Farouk Eltawila,
Acting Director, Division of Systems Analysis and Regulatory Effectiveness, Office of Nuclear Regulatory Research.

[FR Doc. 01-5810 Filed 3-8-01; 8:45 am]

BILLING CODE 7590-01-P